DEPARTMENT OF ENERGY

Federal Energy Regulatory Commission

Combined Notice of Filings #1

Take notice that the Commission received the following electric corporate filings:

Docket Numbers: EC16-48-000.

Applicants: Longview Power.

Description: Application of Longview Power, LLC for Authorizations Pursuant to Section 203 of the Federal Power Act and Requests for Expedited Action and Waivers of Certain Filing Requirements.

Filed Date: 12/9/15.

Accession Number: 20151209-5168.

Comments Due: 5 p.m. ET 12/30/15.

Take notice that the Commission received the following electric rate filings:

Docket Numbers: ER15-1045-002.

Applicants: Pilot Hill Wind, LLC.

Description: Notice of Non-Material Change in Status of Pilot Hill Wind, LLC.

Filed Date: 12/9/15.

Accession Number: 20151209-5174.

Comments Due: 5 p.m. ET 12/30/15.

Docket Numbers: ER16-341-000; ER16-343-000.

Applicants: RE Astoria LLC, RE Astoria 2 LLC.

Description: Clarification to November 17, 2015 RE Astoria LLC and November 18, 2015 RE Astoria 2 LLC tariff filings.

Filed Date: 11/24/15.

Accession Number: 20151125-5059.

Comments Due: 5 p.m. ET 12/21/15.

Docket Numbers: ER16-341-000; ER16-343-000.

Applicants: RE Astoria LLC, RE Astoria 2 LLC.

Description: Second Clarification to November 17, 2015 RE Astoria LLC and November 18, 2015 RE Astoria 2 LLC tariff filings.

Filed Date: 12/4/15.

Accession Number: 20151204-5285.

Comments Due: 5 p.m. ET 12/21/15.

Docket Numbers: ER16-490-000.

Applicants: Midcontinent Independent System Operator, Inc.

Description: § 205(d) Rate Filing: 2015-12-09_MISO-PJM JOA Eliminate $20M Project Threshold to be effective 2/8/2016.

Filed Date: 12/9/15.

Accession Number: 20151209-5114.

Comments Due: 5 p.m. ET 12/30/15.

Docket Numbers: ER16-491-000.

Applicants: Duke Energy Florida, LLC.

Description: § 205(d) Rate Filing: TEA Amended Firm PTP SA No. 140 to be effective 12/10/2015.

Filed Date: 12/9/15.

Accession Number: 20151209-5116.

Comments Due: 5 p.m. ET 12/30/15.

Docket Numbers: ER16-492-000.

Applicants: Wabash Valley Power Association, Inc.

Description: Application of Wabash Valley Power Association, Inc. for Approval to Establish a Regulatory Asset Related to Planned Early Retirements and Recovery of Such Costs through Formulary Rate Tariff.

Filed Date: 12/9/15.

Accession Number: 20151209-5167.

Comments Due: 5 p.m. ET 12/30/15.

Docket Numbers: ER16-493-000.

Applicants: Southwest Power Pool, Inc.

Description: § 205(d) Rate Filing: 1977R7 Nemaha-Marshall Electric Cooperative NITSA and NOA to be effective 12/1/2015.

Filed Date: 12/10/15.

Accession Number: 20151210-5046.

Comments Due: 5 p.m. ET 12/31/15.

Docket Numbers: ER16-494-000.

Applicants: MidAmerican Energy Company.

Description: § 205(d) Rate Filing: MidAmerican-Ameren Amended Trans Interconnection Agreement to be effective 12/31/9998.

Filed Date: 12/10/15.

Accession Number: 20151210-5051.

Comments Due: 5 p.m. ET 12/31/15.

Docket Numbers: ER16-495-000.

Applicants: Prairie Breeze Wind Energy LLC.

Description: § 205(d) Rate Filing: Filing of Amended Assignment, Co-Tenancy, and Shared Facilities Agreement to be effective 12/11/2015.

Filed Date: 12/10/15.

Accession Number: 20151210-5054.

Comments Due: 5 p.m. ET 12/31/15.

Take notice that the Commission received the following foreign utility company status filings:

Docket Numbers: FC16-1-000.

Applicants: Wind Service Sp. z.o.o.

Description: Self-Certification of Foreign Utility Company Status of Wind Service Sp. z.o.o.

Filed Date: 12/10/15.

Accession Number: 20151210-5080.

Comments Due: 5 p.m. ET 12/31/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 10, 2015.
Nathaniel J. Davis, Sr.,
Deputy Secretary.

[FR Doc. 2015-31606 Filed 12-15-15; 8:45 am]

BILLING CODE 6717-01-P